PENSION BENEFIT GUARANTY CORPORATION

Announcement of OMB Approvals of Information Collections

AGENCY: Pension Benefit Guaranty Corporation.

ACTION: Notice of OMB approval.

SUMMARY: The Office of Management and Budget (OMB) has approved certain Pension Benefit Guaranty Corporation (PBGC) information collections under the Paperwork Reduction Act. This notice lists the approved information collections and provides their OMB control numbers and current expiration dates.

FOR FURTHER INFORMATION CONTACT: Melissa Rifkin (rifkin.melissa@pbgc.gov), Attorney, Regulatory Affairs Division, Office of the General Counsel, Pension Benefit Guaranty Corporation, 1200 K Street NW, Washington, DC 20005-4026; 202-229-6563. TTY users may call the Federal Relay Service toll-free at 800-877-8339 and ask to be connected to 202-229-6563.

SUPPLEMENTARY INFORMATION: The Paperwork Reduction Act of 1995 (PRA) (44 U.S.C. 3501 et seq.) and its implementing regulations require Federal agencies, after receiving OMB approval of information collections, to display OMB control numbers and inform respondents of their legal significance. In accordance with those requirements, PBGC hereby notifies the public that the following information collections, that are contained in PBGC's regulations and do not have a corresponding form, have been approved by OMB.

• OMB Control Number 1212-0017, Liability for Termination of Single-Employer Plans. The expiration date for this information collection contained in 29 CFR part 4062 is August 31, 2023.

• OMB Control Number 1212-0021, Variances for Sale of Assets. The expiration date for this information collection contained in 29 CFR part 4204 is June 30, 2023.

• OMB Control Number 1212-0023, Extension of Special Withdrawal Liability Rules. The expiration date for this information collection contained in 29 CFR part 4203 is June 30, 2023.

• OMB Control Number 1212-0031, Procedures for PBGC Approval of Plan Amendments. The expiration date for this information collection contained in 29 CFR part 4220 is June 30, 2023.

• OMB Control Number 1212-0034, Notice, Collection, and Redetermination of Withdrawal Liability. The expiration date for this information collection contained in 29 CFR part 4219 is June 30, 2023.

• OMB Control Number 1212-0035, Allocating Unfunded Vested Benefits. The expiration date for this information collection contained in 29 CFR part 4211 is June 30, 2023.

• OMB Control Number 1212-0039, Reduction or Waiver of Partial Withdrawal Liability. The expiration date for this information collection contained in 29 CFR part 4208 is June 30, 2023.

• OMB Control Number 1212-0044, Reduction or Waiver of Complete Withdrawal Liability. The expiration date for this information collection contained in 29 CFR part 4207 is June 30, 2023.

The PRA provides that an agency may not conduct or sponsor, and a person is not required to respond to, a collection of information unless it displays a currently valid OMB control number. Publication of this notice satisfies this requirement with respect to the above- listed information collections, as provided in 5 CFR 1320.5(b)(2)(ii).

Issued in Washington, DC, by.
Hilary Duke,
Assistant General Counsel for Regulatory Affairs, Pension Benefit Guaranty Corporation.

[FR Doc. 2020-19307 Filed 8-31-20; 8:45 am]

BILLING CODE 7709-02-P